DEPARTMENT OF COMMERCE

Foreign-Trade Zones Board

[B-48-2023]

Foreign-Trade Zone (FTZ) 164, Notification of Proposed Production Activity; Vallourec Star, LP; (Semi-Finished Steel Casing); Muskogee, Oklahoma

Vallourec Star, LP submitted a notification of proposed production activity to the FTZ Board (the Board) for its facility in Muskogee, Oklahoma within Subzone 164A. The notification conforming to the requirements of the Board's regulations (15 CFR 400.22) was received on August 11, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include seamless carbon steel casing and seamless alloy steel casing (duty rate is duty-free).

The proposed foreign-status materials and components include seamless carbon steel casing and seamless alloy steel casing (duty rate is duty-free). The request indicates that certain materials/components are subject to duties under section 232 of the Trade Expansion Act of 1962 (section 232) depending on the country of origin. The applicable section 232 decisions require subject merchandise to be admitted to FTZs in privileged foreign status (19 CFR 146.41).

Public comment is invited from interested parties. Submissions shall be addressed to the Board's Executive Secretary and sent to: ftz@trade.gov. The closing period for their receipt is September 27, 2023.

A copy of the notification will be available for public inspection in the “Online FTZ Information System” section of the Board's website.

For further information, contact Juanita Chen at juanita.chen@trade.gov.

Dated: August 14, 2023.
Elizabeth Whiteman,
Executive Secretary.

[FR Doc. 2023-17813 Filed 8-17-23; 8:45 am]

BILLING CODE 3510-DS-P